ENVIRONMENTAL PROTECTION AGENCY

[FRL-9955-63-Region 9]

Notice of Approval of Clean Air Act Prevention of Significant Deterioration Permit for Ocotillo Power Plant

AGENCY: United States Environmental Protection Agency (EPA).

ACTION: Notice of final agency action.

SUMMARY: This notice announces that the Maricopa County Air Quality Department (MCAQD) issued a final permit decision to Arizona Public Service (APS) for a major modification of a Clean Air Act Prevention of Significant Deterioration (PSD) permit (Permit No. PSD16-01). The PSD permit decision authorizes a major modification at the Ocotillo Power Plant, located in Tempe, Arizona, primarily for the purposes of constructing five simple cycle natural gas-fired combustion turbines, including ancillary equipment. The MCAQD is authorized to issue PSD permit decisions pursuant to a delegation agreement with the EPA, in which the MCAQD “stands in the shoes” of the EPA when administering certain elements of the PSD permitting program. This MCAQD-issued PSD permit decision is considered to be a federally-issued PSD permit decision, and serves as a final agency action by the EPA.

DATES: The MCAQD issued a final PSD permit decision for the Ocotillo Power Plant on September 9, 2016. The permit became effective on that date. Pursuant to section 307(b)(1) of the Clean Air Act, 42 U.S.C. 7607(b)(1), judicial review of this final permit decision, to the extent it is available, may be sought by filing a petition for review in the United States Court of Appeals for the Ninth Circuit within 60 days of November 28, 2016.

ADDRESSES: Documents relevant to the above-referenced permit are available for public inspection during normal business hours at the following addresses:

(1) Maricopa County Air Quality Department, 1001 North Central Avenue, Suite 124, Phoenix, Arizona 85004. To arrange for viewing of these documents, please call (602) 506-6010 or visit online at http://www.maricopa.gov/aq/contact_us/public_records/Default.aspx.

(2) U.S. Environmental Protection Agency, Region 9, 75 Hawthorne Street, San Francisco, California 94105-3901. To arrange for viewing of these documents, call Eugene Chen at (415) 947-4304, chen.eugene@epa.gov. Due to building security procedures, at least 48 hours advance notice is required.

FOR FURTHER INFORMATION CONTACT: Eugene Chen, EPA Region 9, (415) 947-4304, chen.eugene@epa.gov. Anyone who wishes to review the EPA Environmental Appeals Board's (EAB) decision described below or documents in the EAB's electronic docket for its decision can obtain them at http://www.epa.gov/eab/.

NOTICE OF FINAL ACTION AND SUPPLEMENTARY INFORMATION: The MCAQD issued a final PSD permit to APS on March 22, 2016, authorizing a major modification to the Ocotillo Power Plant. EPA regulations at 40 CFR 124.19 provided an opportunity for administrative review by the EPA's EAB of this initial permit decision.

The EPA's EAB received one petition for review of the permit, and on September 1, 2016, the EAB issued an Order denying the petition for review. See In re Arizona Public Service Company Ocotillo Power Plant, PSD Appeal No. 16-01 (EAB, September 1, 2016) (Order Denying Review). Following the EAB's action, pursuant to 40 CFR 52.21(u) and the MCAQD's PSD delegation agreement with the EPA, the MCAQD issued a final permit decision on September 9, 2016. All conditions of PSD Permit No. PSD16-01, as initially issued by the MCAQD on March 22, 2016, were final and effective as of September 9, 2016.

Dated: November 3, 2016.
Elizabeth Adams,
Acting Director, Air Division, Region IX.

[FR Doc. 2016-28435 Filed 11-25-16; 8:45 am]

BILLING CODE 6560-50-P